DEPARTMENT OF AGRICULTURE

Grain Inspection, Packers and Stockyards Administration

Designation for the Amarillo (TX), Cairo (IL), Louisiana, North Carolina, and Belmond (IA) Areas, and Opportunity for Designation To Provide Official Services in the North Central Texas Region

AGENCY: Grain Inspection, Packers and Stockyards Administration, USDA.

ACTION: Notice.

SUMMARY: We are announcing designation of the following organizations to provide official services under the United States Grain Standards Act, as amended (USGSA): Amarillo Grain Exchange, Inc. (Amarillo); Cairo Grain Inspection Agency, Inc. (Cairo); Louisiana Department of Agriculture and Forestry (Louisiana); North Carolina Department of Agriculture (North Carolina); and D. R. Schaal Agency, Inc. (Schaal). Amarillo has asked GIPSA to amend its designation to remove the north central Texas region from their assigned geographic area. GIPSA is asking for persons interested in providing official services in north central Texas, currently served by Amarillo, to submit an application for designation.

DATES: October 1, 2007 is the effective date for the designations. Applications for the north central Texas area must be received on or before October 4, 2007.

ADDRESSES: We invite you to submit applications for designation to provide official services in the North Central Texas Region. You may submit applications by any of the following methods:

• Hand Delivery or Courier: Deliver to Karen Guagliardo, Review Branch Chief, Compliance Division, GIPSA, USDA, Room 1647-S, 1400 Independence Avenue, SW., Washington, DC 20250.

• Fax: Send by facsimile transmission to (202) 690-2755, attention: Karen Guagliardo.

• E-mail: Send via electronic mail to Karen.W.Guagliardo@usda.gov.

• Mail: Send hardcopy to Karen Guagliardo, Review Branch Chief, Compliance Division, GIPSA, USDA, STOP 3604, 1400 Independence Avenue, SW., Washington, DC 20250-3604.

Read Applications: All applications will be available for public inspection at the office above during regular business hours (7 CFR 1.27(b)).

FOR FURTHER INFORMATION CONTACT: Karen Guagliardo at 202-720-7312, e-mail Karen.W.Guagliardo@usda.gov.

SUPPLEMENTARY INFORMATION: In the March 7, 2007, Federal Register (72 FR 10138-10139), we requested applications for designation to provide official services in the geographic areas assigned to the official agencies named above. Applications were due by April 6, 2007.

Amarillo, Cairo, Louisiana, North Carolina, and Schaal were the sole applicants for designation to provide official services in the entire area currently assigned to them, so GIPSA did not ask for additional comments on them.

We evaluated all available information regarding the designation criteria in Section 7(f)(l)(A) of USGSA (7 U.S.C. 79 (f)) and Section 7(f)(l)(B), determined that Amarillo, Cairo, Louisiana, North Carolina, and Schaal are able to provide official services in the geographic areas specified in March 7, 2007, Federal Register, for which they applied. These designation actions to provide official services are effective October 1, 2007, and terminate September 30, 2010, for Amarillo, Cairo, Louisiana, North Carolina, and Schaal. Interested persons may obtain official services by calling the telephone numbers listed below.

Official agency | Headquarters location and telephone | Designation start-end
Amarillo | Amarillo, TX, 806-372-8511 Additional Location: Guymon, OK | 10/01/2007-9/30/2010
Cairo | Cairo, IL, 618-734-0689 | 10/01/2007-9/30/2010
Louisiana | Baton Rouge, LA, 337-948-0230 | 10/01/2007-9/30/2010
North Carolina | Raleigh, NC, 919-733-4491 | 10/01/2007-9/30/2010
Schaal | Belmond, IA, 641-444-3122 Additional Location: Albert Lea, MN | 10/01/2007-9/30/2010

Section 7(f)(1) of the United States Grain Standards Act, as amended (USGSA), authorizes GIPSA's Administrator to designate a qualified applicant to provide official services in a specified area after determining that the applicant is better able than any other applicant to provide such official services (7 U.S.C. 79 (f)(1)).

Section 7(g) (1) of USGSA provides that designations of official agencies will terminate not later than three years and may be renewed according to the criteria and procedures prescribed in Section 7(f) of USGSA.

Amarillo is currently designated for October 1, 2004 through September 30, 2007, and this notice announces their designation effective October 1, 2007. Amarillo has asked GIPSA to remove the north central Texas region from its assigned geographical area. The north central Texas region is comprised of the following nineteen counties: Archer, Baylor, Callahan, Clay, Cottle, Fisher, Foard, Hardeman, Haskell, Jones, King, Knox, Nolan, Shackelford, Stonewall, Taylor, Throckmorton, Wichita, and Wilbarger.

Opportunity for Designation

Interested persons may apply for designation to provide official services in the geographic area specified above under the provisions of Section 7(f) of the USGSA 97 U.S.C. 79(f)(2)), and 9 CFR 800.196(d) regulations. To apply for designation, contact the Compliance Division at the address listed above for forms and information, or obtain applications at the GIPSA Web Site http://www.gipsa.usda.gov.

Authority: 7 U.S.C. 71 et seq.

James E. Link,
Administrator, Grain Inspection, Packers and Stockyards Administration.

[FR Doc. E7-17279 Filed 8-31-07; 8:45 am]

BILLING CODE 3410-KD-P